DEPARTMENT OF HEALTH AND HUMAN SERVICES

Office of the Secretary

Agency Information Collection Activities: Submission for OMB Review; Comment Request

The Department of Health and Human Services, Office of the Secretary publishes a list of information collections it has submitted to the Office of Management and Budget (OMB) for clearance in compliance with the Paperwork Reduction Act of 1995 (44 U.S.C. Chapter 35) and 5 CFR 1320.5. The following are those information collections recently submitted to OMB.

1. Empowerment Zones and Enterprise Communities (EZ/EC) Health Improvement Capacity Survey—NEW—The Office of the Assistant Secretary for Planning and Evaluation is proposing a survey of directors of EZ/ECs to assess their capacity to engage in health improvement planning efforts. Recognizing that EZ/ECs represent some of the nation's most economically disadvantaged and ethnically diverse urban and rural areas, this project is designed to measure the level of interest, commitment and priority assigned to reducing health disparities in these localities. Respondents: EZ/EC Directors; Number of Respondents: 136; Frequency of Response: one time; Average Burden per Response: 20 minutes; Total Annual Burden: 46 hours.

Copies of the information collection packages listed above can be obtained by calling the OS Reports Clearance Officer on (202) 690-6207. Written comments and recommendations for the proposed information collection should be sent directly to the OMB desk officer designated above at the following address: Human Resources and Housing Branch, Office of Management and Budget, New Executive Office Building, room 10235, 725 17th Street NW, Washington, DC 20503.

Comments may also be sent to Cynthia Agens Bauer, OS Reports Clearance Officer, Room 503H, Humphrey Building, 200 Independence Avenue SW, Washington, DC, 20201. Written comments should be received within 30 days of this notice.

Dated: April 4, 2000.
Dennis P. Williams,
Deputy Assistant Secretary, Budget.

[FR Doc. 00-9010 Filed 4-11-00; 8:45 am]

BILLING CODE 4150-04-M